DEPARTMENT OF COMMERCE

International Trade Administration

(A-475-818)

Notice of Partial Rescission of Antidumping Duty Administrative Review: Tenth Administrative Review of the Antidumping Duty Order on Certain Pasta from Italy

AGENCY: Import Administration, International Trade Administration, Department of Commerce.

BACKGROUND: On July 3, 2006, the Department published a notice of opportunity to request an administrative review of the antidumping duty order on certain pasta from Italy. See Antidumping or Countervailing Duty Order, Finding, or Suspended Investigation: Opportunity to Request Administrative Review, 71 FR 37890 (July 3, 2006). We received requests for review from petitioners¹ and from individual Italian exporters/producers of pasta, in accordance with 19 CFR 351.213(b)(1)&(2). On August 30, 2006, the Department published the notice of initiation of this antidumping duty administrative review covering the period July 1, 2005, through June 30, 2006, listing these four companies as respondents: Atar, S.r.L. (“Atar”) and Rummo S.p.A. Molino e Pastificio (Rummo), Industria Alimentare Colavita S.p.A. (Indalco) and Corticella Molini e Pastifici S.p.A./Pasta Combattenti S.p.A. (collectively, “Corticella/Combattenti”). See Initiation of Antidumping and Countervailing Duty Administrative Reviews and Requests for Revocation in Part, 71 FR 51573 (August 30, 2006) (“Initiation Notice”).

¹ New World Pasta Company; Dakota Growers Pasta Company; and American Italian Pasta Company.

Indalco and Corticella/Combattenti timely withdrew their requests for an administrative review of certain pasta from Italy, respectively, on August 31, 2006, and on November 28, 2006, pursuant to section 351.213(d)(1) of the Department's regulations.

EFFECTIVE DATE: July 12, 2007.

FOR FURTHER INFORMATION CONTACT: Maura Jeffords, AD/CVD Operations, Office 3, Import Administration, International Trade Administration, U.S. Department of Commerce, 14th Street and Constitution Avenue, NW., Washington, DC 20230; telephone: (202) 482-3146.

SUPPLEMENTARY INFORMATION:

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by Bioagricoop Scrl, by QC&I International Services, by Ecocert Italia, by Consorzio per il Controllo dei Prodotti Biologici, or by Associazione Italiana per l'Agricoltura Biologica.

In addition, based on publicly available information, the Department has determined that, as of March 13, 2003, imports of organic pasta from Italy that are accompanied by the appropriate certificate issued by Instituto per la Certificazione Etica e Ambientale (“ICEA”) are also excluded from this order. See Memorandum from Audrey Twyman to Susan Kuhbach, dated February 28, 2006, entitled “Recognition of Instituto per la Certificazione Etica e Ambientale (“ICEA”) as a Public Authority for Certifying Organic Pasta from Italy” which is on file in the Department's CRU.

The merchandise subject to this order is currently classifiable under item 1902.19.20 of the Harmonized Tariff Schedule of the United States (“HTSUS”). Although the HTSUS subheading is provided for convenience and customs purposes, the written description of the merchandise subject to the order is dispositive.

Partial Rescission of Review

If a party that requested a review withdraws the request within 90 days of the date of publication of notice of initiation of the requested review, the Secretary will rescind the review, in whole or in part, pursuant to 19 CFR 351.213(d)(1). In this case, respondents Indalco and Corticella/Combattenti withdrew their respective requests for review within 90 days from the date of initiation. No other interested party requested a review of Indalco or Corticella/Combattenti and we have received no comments regarding their withdrawal. Therefore, consistent with 19 CFR 351.213(d)(1), we are rescinding this review of the antidumping duty order on certain pasta from Italy in part with respect to Indalco and Corticella/Combattenti.

The Department intends to issue assessment instructions to U.S. Customs and Border Protection (CBP) 15 days after the publication of this notice. The Department will direct CBP to assess antidumping duties at the cash deposit rate in effect on the date of entry for entries during the period July 1, 2005, through June 30, 2006.

This notice is in accordance with section 777(i)(1) of the Tariff Act of 1930, as amended and 19 CFR 251.213(d)(4).

Dated: July 3, 2007.
Stephen J. Claeys,
Deputy Assistant Secretary for Import Administration.

[FR Doc. E7-13553 Filed 7-11-07; 8:45 am]

BILLING CODE 3510-DS-S